DEPARTMENT OF AGRICULTURE

Agricultural Marketing Service

7 CFR Part 1214

[Document No. AMS-FV-10-0008-FR-1A]

RIN 0581-AD00

Christmas Tree Promotion, Research, and Information Order; Stay of Regulations

AGENCY: Agricultural Marketing Service, USDA.

ACTION: Final rule; stay of regulations.

SUMMARY: On November 8, 2011, a final rule was published in the Federal Register (76 FR 69094) establishing an industry-funded promotion, research, and information program for fresh cut Christmas trees, effective November 9, 2011. Due to recent events, the regulations are stayed in order to provide all interested persons, including the Christmas tree industry and the general public, an opportunity to become more familiar with the program.

DATES: Effective November 17, 2011 Subpart A of 7 CFR part 1214 is stayed indefinitely.

FOR FURTHER INFORMATION CONTACT: Patricia A. Petrella, Marketing Specialist, Research and Promotion Division, Fruit and Vegetable Programs, AMS, USDA, 1400 Independence Avenue SW., Room 1406, Stop 0244, Washington, DC 20250-0244; telephone: (301) 334-2891; or facsimile: (301) 334-2896; or email: Patricia.Petrella@ams.usda.gov.

SUPPLEMENTARY INFORMATION: The Department of Agriculture (Department) published in the Federal Register on November 8, 2011, (76 FR 69094) a final rule that established a Christmas Tree Promotion, Research, and Information Order (Order). This Order was issued pursuant to the Commodity Promotion, Research, and Information Act of 1996 (7 U.S.C. 7411-7425). While we are confident that the Christmas Tree program is compliant with all applicable law and supported by the domestic Christmas tree industry, the program will be stayed to provide additional time for the Department to reach out to the Christmas Tree industry and the public to explain how a research and promotion program is a producer driven program to support American farmers.

Accordingly, the regulations establishing the Order published November 8, 2011 (76 FR 69094) are stayed indefinitely.

Authority: 7 U.S.C. 7411-7425.

Dated: November 14, 2011.
David R. Shipman,
Acting Administrator, Agricultural Marketing Service.

[FR Doc. 2011-29713 Filed 11-16-11; 8:45 am]

BILLING CODE 3410-02-P